DEPARTMENT OF ENERGY

Federal Energy Regulatory Commission

[Docket No. PF06-8-000]

Golden Pass Pipeline LP; Notice of Intent To Prepare an Environmental Assessment for the Proposed Golden Pass Optimized Pipeline Project and Request for Comments on Environmental Issues

January 6, 2006.

The staff of the Federal Energy Regulatory Commission (FERC or Commission) will prepare an environmental assessment (EA) that discusses the environmental impacts of Golden Pass Pipeline LP's (Golden Pass) proposed Optimized Pipeline Project (OP Project or Project) which involves design and route changes to the pipeline facilities previously approved as part of the Golden Pass LNG Terminal and Pipeline Project.¹ In the OP Project, Golden Pass proposes the following changes to the previously authorized facilities: (1) Replace the dual 36-inch-diameter pipelines (mainline and loop) with a single 42-inch-diameter pipeline and (2) incorporate a route change that would replace about 20.4 miles of pipeline with about 11.6 miles of pipeline, thus reducing the total length of the pipeline by about 8.8 miles.

¹ On July 6, 2005, the Commission approved the Golden Pass LNG Terminal and Pipeline Project in Docket Nos. CP04-386-000, CP04-400-000, CP04-401-000, and CP04-402-000. The Golden Pass LNG Terminal and Pipeline Project included a liquefied natural gas (LNG) terminal and associated LNG facilities, 77.8 miles of 36-inch-diameter mainline pipeline, 42.8 miles of 36-inch-diameter looping pipeline that would be constructed adjacent to the mainline, and associated pipeline facilities.

The OP Project is currently in the preliminary stages of design and at this time a formal application has not been filed with the Commission. For this project, the Commission is initiating the National Environmental Policy Act (NEPA) review prior to receiving the formal application. This allows interested stakeholders to become involved early in the project planning and to identify and resolve issues before a formal application is filed with the FERC. A docket number (PF06-8-000) has been established to place information filed by Golden Pass and related documents issued or received by the Commission, into the public record.² Once a formal application is filed with the FERC, a new docket number will be established.

² To view information in the docket, follow the instructions for using the eLibrary link at the end of this notice.

This notice announces the opening of the scoping period that will be used to gather environmental input from the public and interested agencies on the Project. Please note that the scoping period will close on February 6, 2006. Details on how to submit comments are provided in the Public Participation section of this notice.

This notice is being sent to potentially affected landowners along the OP Project route; Federal, State, and local government agencies; elected officials; environmental and public interest groups; Native American tribes; and local libraries and newspapers.

With this notice, we ³ are asking Federal, State, and local agencies with jurisdiction and/or special expertise with respect to environmental issues to cooperate with us in the preparation of the EA. These agencies may choose to participate once they have evaluated the proposal relative to their responsibilities. Agencies which would like to request cooperating status should follow the instructions for filing comments described later in this notice. We encourage government representatives to notify their constituents of this planned project and encourage them to comment on their areas of concern.

³ “We,” “us,” and “our” refer to the environmental staff of the Office of Energy Projects.

Some affected landowners may be contacted by a project representative about the acquisition of an easement to construct, operate, and maintain the proposed pipeline. If so, the company should seek to negotiate a mutually acceptable agreement. In the event that the Project is certificated by the Commission, that approval conveys the right of eminent domain for securing easements for the pipeline. Therefore, if easement negotiations fail to produce an agreement, the company could initiate condemnation proceedings in accordance with State law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

In the Commission's July 6, 2005 Order, Golden Pass was authorized to construct and operate approximately 77.8 miles of 36-inch-diameter mainline, 42.8 miles of 36-inch-diameter loop, and 1.8 miles of 24-inch-diameter pipeline and related pipeline facilities. These facilities (or the Authorized Pipeline) would be used to transport natural gas on an open-access basis from the proposed Golden Pass LNG Terminal on the Port Arthur ship channel to various interstate and intrastate pipelines in Texas and Louisiana.

Golden Pass proposes in the OP Project to construct and operate a single 42-inch-diameter pipeline, in place of the 42.8 miles of dual 36-inch-diameter pipelines and shorten the pipeline route. This proposal would involve only those pipeline facilities in Jefferson and Orange Counties, Texas. Authorized Pipeline facilities in Newton County, Texas, and Calcasieu Parish, Louisiana, would not be affected by the proposed OP Project. A map illustrating the authorized facilities and the proposed OP Project is provided in Appendix 1.⁴

⁴ The appendices referenced in this notice are not being printed in the Federal Register. Copies are available on the Commission's Internet Web site (http://www.ferc.gov) at the “eLibrary” link or from the Commission's Public Reference and Files Maintenance Branch at 1-202-502-8371. For instructions on connecting to eLibrary refer to the Additional Information section of this notice.

Non-Jurisdictional Facilities

There are no proposed non-jurisdictional facilities associated with this proposal.

Land Requirements for Construction

Construction of the OP Project would reduce the total acreage of land impacted by the Authorized Pipeline as a result of the design change (from two 36-inch-diameter pipelines to one 42-inch-diameter pipeline) and the route change (from 20.4 miles to 11.6 miles). The typical overland construction right-of-way width would be reduced from 125 feet to 100 feet, and the operating right-of-way width would be reduced from 75 feet to 50 feet. The typical open water construction right-of-way width would be reduced from 375 feet to 300 feet, and the operating right-of-way width would be reduced from 125 feet to 50 feet. The 225-foot-wide construction right-of-way and the 125-foot-wide operating right-of-way along horizontal directional drills would be reduced to 150 feet and 50 feet, respectively. The OP Project would be approximately 8.8 miles shorter than the corresponding segment of the Authorized Pipeline.

The EA Process

NEPA requires the Commission to take into account the environmental impacts that could result from an action whenever it considers the issuance of a Certificate of Public Convenience and Necessity under Section 7 of the Natural Gas Act. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, State, and local agencies with jurisdiction and/or special expertise with respect to environmental issues to formally cooperate with us in the preparation of the EA. Agencies that would like to request cooperating status should follow the instructions for filing comments below.

In the EA we will discuss impacts that could occur as a result of the construction and operation of the proposed Project under these general headings:

• Geology and soils

• Land use

• Water resources, fisheries, and wetlands

• Cultural resources

• Vegetation and wildlife

• Air quality and noise

• Endangered and threatened species

• Hazardous waste

• Public safety

We will also evaluate possible alternatives to the proposed Project or portions of the Project, and make recommendations on how to lessen or avoid impacts on the various resource areas.

Our independent analysis of the issues is included in the EA. Depending on the comments received during the scoping process, the EA would be published and mailed to Federal, State, and local agencies, Native American tribes, public interest groups, interested individuals, affected landowners, newspapers, libraries, and the Commission's official service list for this proceeding. A comment period would be allotted for review of the EA. All comments received on the EA would be considered before we make our recommendations to the Commission. The EA is used by the Commission in its decisionmaking process to determine whether the Project is in the public convenience and necessity.

To ensure your comments are considered, please carefully follow the instructions in the public participation section described later in this notice.

Currently Identified Environmental Issues

We have identified several issues that we think deserve attention based on a preliminary review of the proposed facilities and the environmental information provided by Golden Pass. This preliminary list of issues may be changed based on your comments and our analysis.

➢ Water Resources

• Impact on water quality.

• Impact on wetlands.

➢ Endangered and Threatened Species

• Impact on essential fish habitat.

➢ Reliability and Safety

• Assessment of hazards associated with natural gas pipelines.

➢ Air Quality and Noise

• Impacts from construction of the pipeline on residences.

Public Participation

You can make a difference by providing us with your specific comments or concerns about the Project. By becoming a commentor, your concerns may be addressed in the EA and considered by the Commission. You should focus on the potential environmental effects of the proposal, alternatives to the proposal (including alternative locations and routes), and measures to avoid or lessen environmental impact. The more specific your comments, the more useful they may be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. PF06-8-000 on the original and both copies.

• Mail your comments so that they will be received in Washington, DC on or before February 6, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments, you will need to open a free account which can be created on-line.

Becoming an Intervenor

In addition to involvement in the EA scoping process, you may want to become an official party to the proceeding known as an “intervenor”. However, there is no procedure for parties to become intervenors during the pre-filing process. You may request intervenor status after Golden Pass files its formal certificate application with the Commission and is assigned a “CP” docket number.

Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

If you do not want to send comments at this time, but still want to remain on our mailing list, please return the attached Mailing List Retention Form (Appendix 3). If you do not return the form, you will be taken off the mailing list.

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact 1-202-502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-277 Filed 1-12-06; 8:45 am]

BILLING CODE 6717-01-P